COMMITTEE FOR PURCHASE FROM PEOPLE WHO ARE BLIND OR SEVERELY DISABLED

Procurement List; Proposed additions

AGENCY: Committee for Purchase From People Who Are Blind or Severely Disabled.

ACTION: Proposed Additions to the Procurement List.

SUMMARY: The Committee is proposing to add products to the Procurement List that will be furnished by nonprofit agencies employing persons who are blind or have other severe disabilities.

DATES: Comments must be received on or before: July 1, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition(s)

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

8410-01-413-2735—Skirt, USMC, Women's, Blue, Size 2 Short

8410-01-413-2737—Skirt, USMC, Women's, Blue, Size 2 Regular

8410-01-413-2739—Skirt, USMC, Women's, Blue, Size 2 Long

8410-01-413-2741—Skirt, USMC, Women's, Blue, Size 4 Short

8410-01-413-2743—Skirt, USMC, Women's, Blue, Size 4 Regular

8410-01-413-2746—Skirt, USMC, Women's, Blue, Size 4 Long

8410-01-413-2748—Skirt, USMC, Women's, Blue, Size 6 Short

8410-01-413-2750—Skirt, USMC, Women's, Blue, Size 6 Regular

8410-01-413-2755—Skirt, USMC, Women's, Blue, Size 6 Long

8410-01-413-2757—Skirt, USMC, Women's, Blue, Size 8 Short

8410-01-413-2760—Skirt, USMC, Women's, Blue, Size 8 Regular

8410-01-413-2762—Skirt, USMC, Women's, Blue, Size 8 Long

8410-01-413-2783—Skirt, USMC, Women's, Blue, Size 10 Short

8410-01-413-2785—Skirt, USMC, Women's, Blue, Size 10 Regular

8410-01-413-2787—Skirt, USMC, Women's, Blue, Size 10 Long

8410-01-413-2792—Skirt, USMC, Women's, Blue, Size 12 Short

8410-01-413-2795—Skirt, USMC, Women's, Blue, Size 12 Regular

8410-01-413-2801—Skirt, USMC, Women's, Blue, Size 12 Long

8410-01-413-2975—Skirt, USMC, Women's, Blue, Size 14 Short

8410-01-413-2987—Skirt, USMC, Women's, Blue, Size 14 Regular

8410-01-413-2989—Skirt, USMC, Women's, Blue, Size 14 Long

8410-01-413-2991—Skirt, USMC, Women's, Blue, Size 16 Short

8410-01-413-3085—Skirt, USMC, Women's, Blue, Size 16 Regular

8410-01-413-3087—Skirt, USMC, Women's, Blue, Size 16 Long

8410-01-413-3894—Skirt, USMC, Women's, Green, Size 2 Short

8410-01-413-3895—Skirt, USMC, Women's, Green, Size 2 Regular

8410-01-413-3896—Skirt, USMC, Women's, Green, Size 2 Long

8410-01-413-3897—Skirt, USMC, Women's, Green, Size 4 Short

8410-01-413-3898—Skirt, USMC, Women's, Green, Size 4 Regular

8410-01-413-3900—Skirt, USMC, Women's, Blue, Size 4 Long

8410-01-413-3901—Skirt, USMC, Women's, Blue, Size 6 Short

8410-01-413-3902—Skirt, USMC, Women's, Blue, Size 6 Regular

8410-01-413-4901—Skirt, USMC, Women's, Blue, Size 6 Long

8410-01-413-4904—Skirt, USMC, Women's, Blue, Size 8 Short

8410-01-413-4908—Skirt, USMC, Women's, Blue, Size 8 Regular

8410-01-413-4909—Skirt, USMC, Women's, Blue, Size 8 Long

8410-01-413-4911—Skirt, USMC, Women's, Green, Size 10 Short

8410-01-413-4912—Skirt, USMC, Women's, Green, Size 10 Regular

8410-01-413-4914—Skirt, USMC, Women's, Green, Size 10 Long

8410-01-413-4916—Skirt, USMC, Women's, Green, Size 12 Short

8410-01-413-4918—Skirt, USMC, Women's, Green, Size 12 Regular

8410-01-413-4920—Skirt, USMC, Women's, Green, Size 12 Long

8410-01-413-4921—Skirt, USMC, Women's, Green, Size 14 Short

8410-01-413-4922—Skirt, USMC, Women's, Green, Size 14 Regular

8410-01-413-4924—Skirt, USMC, Women's, Green, Size 14 Long

8410-01-413-4927—Skirt, USMC, Women's, Green, Size 16 Short

8410-01-413-4933—Skirt, USMC, Women's, Green, Size 16 Regular

8410-01-413-4935—Skirt, USMC, Women's, Green, Size 16 Long

Mandatory for: 100% of the requirement of the U.S. Marine Corps

Mandatory Source(s) of Supply: Dallas Lighthouse for the Blind, Inc., Dallas, TX

Contracting Activity: Defense Logistics Agency Troop Support

Distribution: C-List

NSN(s)—Product Name(s): 2530-01-337-7324—Parts Kit, Air Filter

Mandatory for: 100% of the requirement of the Department of Defense

Mandatory Source(s) of Supply: Raleigh Lions Clinic for the Blind, Inc., Raleigh, NC

Contracting Activity: Defense Logistics Agency Land and Maritime

Distribution: C-List

NSN(s)—Product Name(s): 7920-00-655-5290—Pad, Scouring, Synthetic, Heavy Duty, Yellow and Green, 4½″ x 3″ x ½″

Mandatory for: Total Government Requirement

Mandatory Source(s) of Supply: The Lighthouse for the Blind in New Orleans, Inc., New Orleans, LA

Contracting Activity: General Services Administration, Fort Worth, TX

Distribution: A-List

NSN(s)—Product Name(s): 8105-00-NIB-1437—Envelopes, Packing List, 4½″ x 5½″

Mandatory for: Total Government Requirement

Mandatory Source(s) of Supply: West Texas Lighthouse for the Blind, San Angelo, TX

Contracting Activity: General Services Administration, New York, NY

Distribution: A-List

NSN(s)—Product Name(s): 6230-00-NIB-0066—Work Light, LED, Articulating Arm, Red and Black

Mandatory for: Broad Government Requirement

Mandatory Source(s) of Supply: Industries for the Blind, Inc., West Allis, WI

Contracting Activity: Defense Logistics Agency Troop Support

Distribution: B-List

Amy Jensen,
Director, Business Operations.

[FR Doc. 2018-11831 Filed 6-1-18; 8:45 am]

BILLING CODE 6353-01-P